DEPARTMENT OF TRANSPORTATION

Federal Aviation Administration

14 CFR Part 39

[Docket No. FAA-2017-0048; Directorate Identifier 2016-CE-035-AD; Amendment 39-18876; AD 2017-10-02]

RIN 2120-AA64

Airworthiness Directives; Slingsby Aviation Ltd. Airplanes

AGENCY: Federal Aviation Administration (FAA), Department of Transportation (DOT).

ACTION: Final rule.

SUMMARY: We are superseding airworthiness directive (AD) 2015-11-01 for Slingsby Aviation Ltd. Models T67M260 and T67M260-T3A airplanes. This AD results from mandatory continuing airworthiness information (MCAI) issued by an aviation authority of another country to identify and correct an unsafe condition on an aviation product. The MCAI describes the unsafe condition as failure of a brake master cylinder pivot pin, which could cause the rudder pedal mechanism to detach from the brake cylinder. We are issuing this AD to require actions to address the unsafe condition on these products.

DATES: This AD is effective June 29, 2017.

The Director of the Federal Register approved the incorporation by reference of a certain publication listed in the AD as of June 29, 2017.

ADDRESSES: You may examine the AD docket on the Internet at http://www.regulations.gov by searching for and locating Docket No. FAA-2017-0048; or in person at the Docket Management Facility, U.S. Department of Transportation, Docket Operations, M-30, West Building Ground Floor, Room W12-140, 1200 New Jersey Avenue SE., Washington, DC 20590.

For service information identified in this AD, contact Marshall Aerospace and Defence Group, The Airport, Newmarket Road, Cambridge, CB5 8RX, UK; telephone: +44 (0) 1223 399856; fax: +44 (0) 7825365617; email: mark.bright@marshalladg.com; Internet: www.marshalladg.com. You may view this referenced service information at the FAA, Small Airplane Directorate, 901 Locust, Kansas City, Missouri 64106. For information on the availability of this material at the FAA, call (816) 329-4148. It is also available on the Internet at http://www.regulations.gov by searching for Docket No. FAA-2017-0048.

FOR FURTHER INFORMATION CONTACT: Jim Rutherford, Aerospace Engineer, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to Slingsby Aviation Ltd. Models T67M260 and T67M260-T3A airplanes. That NPRM was published in the Federal Register on February 7, 2017 (82 FR 9537), and proposed to supersede AD 2015-11-01, Amendment 39-18164 (80 FR 30136, May 27, 2015) (“AD 2015-11-01”).

Since we issued AD 2015-11-01, new service information was issued to revise the inspection instructions and to add a new initial inspection period after replacement of the brake master cylinder pivot pins.

The NPRM proposed to correct an unsafe condition for the specified products and was based on mandatory continuing airworthiness information (MCAI) originated by an aviation authority of another country. The MCAI states that:

An occurrence was reported where pivot pin Part Number (P/N) T67M-45-539, of rudder pedal assembly #4, installed on the right hand (RH) side of the aeroplane (RH seat, RH pedal) failed during taxi. This caused the rudder pedal mechanism to detach from the brake master cylinder.

This condition, if not detected and corrected, could cause the rudder linkages to rotate out of their normal orientation, possibly resulting in jammed rudder controls and consequent loss of control of the aeroplane.

To address this potential unsafe condition, Slingsby Advanced Composites Ltd, trading as Marshall Aerospace and Defence Group (hereafter called “Marshall” in this [EASA] AD) issued Service Bulletin (SB) SBM 200 to provide inspection instructions.

Consequently, EASA issued Emergency AD 2015-0065-E to require repetitive inspections of the brake cylinder pivot pins of rudder pedal assemblies #1 and #4 and, depending on findings, replacement of the affected pivot pin(s).

Since that [EASA] AD was issued, Marshall published SBM 200 Revision 2 to revise the inspection instructions and to introduce a new initial inspection period after replacement of brake master cylinder pivot pins on an aeroplane.

For the reason described above, this [EASA] AD retains the requirements of EASA AD 2015-065-E, which is superseded, but requires the use of the revised inspection instructions. This [EASA] AD also allows deferring the next due inspection after replacement of the pins.

The MCAI can be found in the AD docket on the Internet at: https://www.regulations.gov/document?D=FAA-2017-0048-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information

Slingsby Aviation Ltd. trading as Marshall Aerospace and Defence Group has issued Marshall Aerospace and Defence Group Service Bulletin SBM 200, Revision 2, dated December 2015. The service bulletin describes procedures for inspection of the brake master cylinder pivot pin. This service information is reasonably available because the interested parties have access to it through their normal course of business or by the means identified in the ADDRESSES section.

Costs of Compliance

We estimate that this AD will affect 3 products of U.S. registry. We also estimate that it would take about 6 work-hours per product to comply with the basic requirements of this AD. The average labor rate is $85 per work-hour. Required parts would cost about $50 per product.

Based on these figures, we estimate the cost of the AD on U.S. operators to be $1,680, or $560 per product.

In addition, we estimate that any necessary follow-on actions would take about .5 work-hour and require parts costing $100, for a cost of $142.50 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2017-0048; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-18164 (80 FR 30136; May 27, 2015) and adding the following new AD:

2017-10-02 Slingsby Aviation Ltd.: Amendment 39-18876; Docket No. FAA-2017-0048; Directorate Identifier 2016-CE-035-AD.

(a) Effective Date

This airworthiness directive (AD) becomes effective June 29, 2017.

(b) Affected ADs

This AD supersedes AD 2015-11-01, Amendment 39-18164 (80 FR 30136, May 27, 2015) (“AD 2015-11-01”).

(c) Applicability

This AD applies to Slingsby Aviation Ltd. Models T67M260 and T67M260-T3A airplanes, all serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as failure of a brake master cylinder pivot pin, which could cause the rudder pedal mechanism to detach from the brake cylinder. We are issuing this AD to detect and correct discrepancies of the brake master cylinder pivot pin, which could lead to detachment of the rudder pedal mechanism from the brake master cylinder with consequent loss of control.

(f) Actions and Compliance

Unless already done, do the following actions in paragraphs (f)(1) through (3) of this AD:

(1) Within 300 hours time-in-service (TIS) after June 29, 2017 (the effective date of this AD) or within 300 hours TIS after the last inspection required by AD 2015-11-01, whichever occurs first, and repetitively thereafter at intervals not to exceed 300 hours TIS or 12 months, whichever occurs first, inspect the brake master cylinder pivot pins part number (P/N) T67M-45-539 installed on rudder pedal assemblies number 1 and number 4. Do this action following paragraph C. INSPECTION of the Accomplishment Instructions in Marshall Aerospace and Defense Group Service Bulletin SBM 200, Revision 2, dated December 2015 (“SBM 200, Revision 2”).

(2) If any cracking or distortion of the brake master cylinder pivot pins is found or the pivot pin fails the dimensional check during any of the inspections required in paragraph (f)(1) of this AD, before further flight, replace the affected pivot pin with a serviceable part following paragraph C. INSPECTION of the Accomplishment Instructions in SBM 200, Revision 2.

(3) Replacement of the brake master cylinder pivot pins as required by paragraph (f)(2) of this AD does not terminate the repetitive inspections required by paragraph (f)(1) of this AD. If both brake master cylinder pivot pins are replaced at the same time, the first repetitive inspection after replacement of the pivot pins can be deferred until 1,000 hours TIS after replacement of the pivot pins.

(g) Credit for Actions Accomplished in Accordance With Previous Service Information

This AD provides credit for any inspections required in paragraph (f)(1) of this AD if completed before June 29, 2017 (the effective date of this AD) following the Accomplishment Instructions of Marshall Aerospace and Defense Group Service Bulletin SBM 200, Revision 1, dated April 2015.

(h) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA AD 2016-0214, dated October 27, 2016, for related information. The MCAI can be found in the AD docket on the Internet at: https://www.regulations.gov/document?D=FAA-2017-0048-0002.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Marshall Aerospace and Defense Group Service Bulletin SBM 200, Revision 2, dated December 2015.

(ii) Reserved.

(3) For service information identified in this AD, contact Marshall Aerospace and Defence Group, The Airport, Newmarket Road, Cambridge, CB5 8RX, UK; telephone: +44 (0) 1223 399856; fax: +44 (0) 7825365617; email: mark.bright@marshalladg.com; Internet: www.marshalladg.com.

(4) You may view this service information at the FAA, Small Airplane Directorate, 901 Locust, Kansas City, Missouri 64106. For information on the availability of this material at the FAA, call (816) 329-4148. In addition, you can access this service information on the Internet at http://www.regulations.gov by searching for and locating Docket No. FAA-2017-0048.

(5) You may view this service information that is incorporated by reference at the National Archives and Records Administration (NARA). For information on the availability of this material at NARA, call 202-741-6030, or go to: http://www.archives.gov/federal-register/cfr/ibr-locations.html.

Issued in Kansas City, Missouri, on May 3, 2017.
Melvin Johnson,
Acting Manager, Small Airplane Directorate, Aircraft Certification Service.

[FR Doc. 2017-10403 Filed 5-24-17; 8:45 am]

BILLING CODE 4910-13-P